DEPARTMENT OF DEFENSE

GENERAL SERVICES ADMINISTRATION

NATIONAL AERONAUTICS AND SPACE ADMINISTRATION

[OMB Control No. 9000-0180; Docket No. 2017-0053; Sequence 12]

Information Collection; Affirmative Procurement of Biobased Procurements Under Services and Construction Contracts

AGENCY: Department of Defense (DOD), General Services Administration (GSA), and National Aeronautics and Space Administration (NASA).

ACTION: Notice of request for public comments regarding an extension to an existing OMB clearance.

SUMMARY: Under the provisions of the Paperwork Reduction Act, the Regulatory Secretariat Division (MVCB) will be submitting to the Office of Management and Budget (OMB) a request to review and approve an extension of a previously approved information collection requirement regarding Biobased Procurements.

DATES: Submit comments on or before October 27, 2017.

ADDRESSES: Submit comments identified by Information Collection 9000-0180, Affirmative Procurement of Biobased Procurements Under Services and Construction Contracts, by any of the following methods:

• Regulations.gov: http://www.regulations.gov. Submit comments via the Federal eRulemaking portal by searching the OMB control number 9000-0180. Select the link “Comment Now” that corresponds with “Information Collection 9000-0180, Affirmative Procurement of Biobased Procurements Under Services and Construction Contracts. Follow the instructions provided on the screen. Please include your name, company name (if any), and “Information Collection 9000-0180, “Affirmative Procurement of Biobased Procurements Under Services and Construction Contracts” on your attached document.

• Mail: General Services Administration, Regulatory Secretariat Division (MVCB), 1800 F Street NW., Washington, DC 20405. ATTN: Ms. Sosa/IC 9000-0180, Biobased Procurements.

Instructions: Please submit comments only and cite Information Collection 9000-0180, Affirmative Procurement of Biobased Procurements Under Services and Construction Contracts. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Charles Gray, Procurement Analyst, Office of Governmentwide Acquisition Policy, at telephone 703-795-6328, or email charles.gray@gsa.gov.

SUPPLEMENTARY INFORMATION:

A. Purpose

Federal Acquisition Regulation clause 52.223-2, Affirmative Procurement of Biobased Products Under Service and Construction Contracts, requires prime contractors to report annually the product types and dollar values of U.S. Department of Agriculture (USDA)-designated biobased products purchased to the System for Award Management (SAM) Web site. The information reported by prime contractors enables Federal agencies to report annually to the Office of Federal Procurement Policy (OFPP) concerning actions taken to implement and measure progress in carrying out the preference for biobased products required under section 9002 of the Farm Security and Rural Investment Act of 2002, codified at 7 U.S.C. 8102.

B. Annual Reporting Burden

To determine the number of contractors performing construction and service contracts that may involve the purchase of USDA-designated biobased products, fiscal year 2016 data in the Federal Procurement Data System (FPDS) was reviewed to calculate the number entities with unique DUNS numbers that were awarded contracts for the following selected Product Services Codes: A—Research and Development; F—Natural Resources Management; J—Maintenance, Repair, and Rebuilding of Equipment; M—Operation of Government-Owned Facility; S—Utilities and Housekeeping Services; T—Photographic, Mapping, Printing, and Publication Services; Y—Construction of Structures and Facilities; and Z—Maintenance, Repair or Alteration of Real Property. The clause at FAR 52.223-2 will apply to the majority of the contract actions in the selected PSCs

The estimated total burden is as follows:

Respondents: 51,457.

Responses per Respondent: 5.

Total Annual Responses: 257,285.

Hours per Response: 5.

Total Burden Hours: 1,286,425.

Affected Public: Businesses or other for-profit and not-for-profit institutions.

Frequency: Annually.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0180, Affirmative Procurement of Biobased Procurements Under Services and Construction Contracts, in all correspondence.

Dated: August 22, 2017.
Lorin S. Curit,
Director, Federal Acquisition Policy Division, Office of Government-wide Acquisition Policy, Office of Acquisition Policy, Office of Government-wide Policy.

[FR Doc. 2017-18105 Filed 8-25-17; 8:45 am]

BILLING CODE 6820-EP-P